NATIONAL FOUNDATION FOR THE ARTS AND THE HUMANITIES

National Endowment for the Arts; National Council on the Arts 161st Meeting

Pursuant to section 10 (a) (2) of the Federal Advisory Committee Act (Pub. L. 92-463), as amended, notice is hereby given that a meeting of the National Council on the Arts will be held on July 12 and July 13, 2007 in Rooms 527 and M-09 at the Nancy Hanks Center, 1100 Pennsylvania Avenue, NW., Washington, DC 20506.

The Council will meet in closed session on July 12th, from 2 p.m. to 5 p.m., in Room 527 for discussion of National Medal of Arts nominations. In accordance with the determination of the Chairman of February 16, 2007, this session will be closed to the public pursuant to subsection (c)(6) of section 552b of Title 5, United States Code.

The July 13th meeting, from 9 a.m. to 12 p.m. (ending time is approximate), will be open to the public on a space available basis. Opening remarks and announcements will include a musical tribute to Mstislav Rostropovich and the swearing in of a new Council member. After the swearing in, there will be a recitation by the national Poetry Out Loud winner, Amanda Fernandez, followed by an update on Congressional/White House activities. The meeting will include a presentation on Regional Arts Organizations, followed by review and voting on applications and guidelines. The meeting will conclude with general discussion.

If, in the course of the open session discussion, it becomes necessary for the Council to discuss non-public commercial or financial information of intrinsic value, the Council will go into closed session pursuant to subsection (c)(4) of the Government in the Sunshine Act, 5 U.S.C. 552b. Additionally, discussion concerning purely personal information about individuals, submitted with grant applications, such as personal biographical and salary data or medical information, may be conducted by the Council in closed session in accordance with subsection (c) (6) of 5 U.S.C. 552b.

Any interested persons may attend, as observers, Council discussions and reviews that are open to the public. If you need special accommodations due to a disability, please contact the Office of AccessAbility, National Endowment for the Arts, 1100 Pennsylvania Avenue, NW., Washington, DC 20506, 202/682-5532, TTY-TDD 202/682-5429, at least seven (7) days prior to the meeting.

Further information with reference to this meeting can be obtained from the Office of Communications, National Endowment for the Arts, Washington, DC 20506, at 202/682-5570.

Dated: June 14, 2007.
Kathy Plowitz-Worden,
Panel Coordinator, Office of Guidelines and Panel Operations.

[FR Doc. E7-11777 Filed 6-18-07; 8:45 am]

BILLING CODE 7537-01-P